DEPARTMENT OF THE INTERIOR

Bureau of Land Management

[WY-950-1420-00-P]

Filing of Plats of Survey; Wyoming

AGENCY: Bureau of Land Management, Interior.

ACTION: Notice.

The plats of the following described lands were officially filed in the Wyoming State Office, Bureau of Land Management, Cheyenne, Wyoming, effective 10:00 a.m., May 23, 2000.

The plat representing the dependent resurvey of a portion of the Ninth Auxillary Meridian West, through Township 54 North, between Ranges 76 and 77 West, a portion of the South boundary, the East and North boundaries and a portion of the subdivisional lines, T. 54 N., R. 76 W., Sixth Principal Meridian, Wyoming, Group No. 511, was accepted May 18, 2000.

The plat representing the dependent resurvey of a portion of the Ninth Auiliary Meridian West, through Township 55 North, between Ranges 76 and 77 West, the East boundary and a portion of the subdivisional lines, T. 55 N., R. 76 W., Sixth Principal Meridian, Wyoming, Group No. 511, was accepted May 18, 2000.

The plat representing the dependent resurvey of a portion of the Fourteenth Standard Parallel North, through Range 76 West, a portion of the South boundary, the East boundary and a portion of the subdivisional lines, T. 56 N., R. 76 W., Sixth Principal Meridian, Wyoming, Group No. 511, was accepted May 18, 2000.

The plat representing the dependent resurvey of a portion of the Thirteenth Standard Parallel North, through Range 76 West, the East boundary and a portion of the subdivisional lines, T. 53 N., R. 76 W., Sixth Principal Meridian, Wyoming, Group No. 585, was accepted May 18, 2000.

The plat representing the dependent resurvey of the subdivisional lines, T. 42 N., R. 74 W., Sixth Principal Meridian, Wyoming, Group No. 601, was accepted May 18, 2000.

The plat representing the dependent resurvey of a portion of the Tenth Standard Parallel North, through Range 74 West, the North boundary and the subdivisional lines, T. 41 N., R. 74 W., Sixth Principal Meridian, Wyoming, Group No. 601, was accepted May 18, 2000.

The plat representing the dependent resurvey of Mineral Survey No. 246, T. 29 N., Rs. 99 and 100 W., Sixth Principal Meridian, Wyoming, Group No. 627, was accepted May 18, 2000.

The plat representing the dependent resurvey of the South boundary and a portion of the East boundary, T. 43 N., R. 67 W., Sixth Principal Meridian, Wyoming, Group No. 635, was accepted May 18, 2000.

Dated: May 23, 2000.
John P. Lee,
Chief Cadastral Survey Group.

[FR Doc. 00-13866 Filed 6-1-00; 8:45 am]

BILLING CODE 4310-22-P